DEPARTMENT OF ENERGY

Federal Energy Regulatory Commission

[Project No. 1889-085]

FirstLight MA Hydro LLC; Notice Establishing Procedural Schedule for Licensing and Deadline for Submission of Final Amendments

Take notice that the following amended hydroelectric application has been filed with the Commission and is available for public inspection.

a. Type of Application: New Major License.

b. Project No.: 1889-085.

c. Date Material Amendments Filed: December 4, 2020.

d. Applicant: FirstLight MA Hydro LLC (FirstLight).

e. Name of Project: Turners Falls Hydroelectric Project (project).

f. Location: The existing project is located on the Connecticut River in Windham County, Vermont, Cheshire County, New Hampshire, and Franklin County, Massachusetts. There are approximately 20 acres of federal lands within the current project boundary associated with the U.S. Geological Survey's Silvio Conte Anadromous Fish Laboratory.

g. Filed Pursuant to: Federal Power Act, 16 U.S.C. 791 (a)-825(r).

h. Applicant Contact: Mr. Justin Trudell, Vice President, Operations, FirstLight MA Hydro LLC, 111 South Bedford Street, Suite 103, Burlington, MA 01803; (781) 653-4247 or justin.trudell@firstlightpower.com.

i. FERC Contact: Steve Kartalia, (202) 502-6131 or stephen.kartalia@ferc.gov.

j. This application is not ready for environmental analysis at this time.

k. FirstLight Hydro Generating Company filed an application for a new license for the Turners Falls Hydroelectric Project No. 1889 (project) on April 29, 2016. In the license application, FirstLight Hydro Generating Company stated that it could not develop a complete licensing proposal for the project since many of the required environmental studies were not complete as of April 29, 2016. FirstLight Hydro Generating Company indicated that it would amend the license application after completing additional field work, consultation, and analyses on the required studies. On July 11, 2019, Commission staff approved the transfer of the license for the project from FirstLight Hydro Generating Company to FirstLight MA Hydro LLC. FirstLight MA Hydro LLC filed material amendments to the final license application on December 4, 2020.

l. Project Description: The existing Turners Falls Project consists of: (1) A 630-foot-long, 35-foot-high dam (Montague dam) that includes: (i) Four 120-foot-wide, 13.25-foot-high bascule gates; and (ii) a 170-foot-long fixed section with a crest elevation of 185.5 feet National Geodetic Vertical Datum of 1929 (NGVD 29); (2) a 493-foot-long, 55-foot-high dam (Gill dam) that includes: (i) Three 40-foot-wide, 39-foot-high tainter gates; and (ii) 97.3- and 207.5-foot-long fixed sections with crest elevations of 185.5 feet NGVD 29; (3) a 2,110-acre impoundment with a useable storage volume of 16,150 acre-feet between elevations 176.0 feet and 185.0 feet NGVD 29; (4) a 214-foot-long, 33-foot-high gatehouse that includes six 9-foot-wide, 10.66-foot-high gates and nine 9.5-foot-wide, 12.6-foot-high gates; (5) a 2.1-mile-long, 120- to 920-foot-wide, 17- to 30-foot-deep power canal; (6) a 700-foot-long, 100-foot-wide, 16- to 23-foot-deep branch canal; (7) the Station No.1 generating facility that includes: (i) Eight 15-foot-wide bays with trashracks with 2.625-inch clear-bar spacing; (ii) four 100-foot-long, 13.1- to 14-foot-diameter penstocks; (iii) a 134-foot-long, 64-foot-wide powerhouse that contains five turbine-generator units with a total installed capacity of 5.693 megawatts (MW); (iv) four 21-foot-long, 6.5-foot-diameter draft tubes; (v) five 40- to 70-foot-long, 2.4-kilovolt (kV) generator leads that connect the turbine-generator units to a generator bus; (vi) a 110-foot-long, 2.4-kV generator lead that connects the generator bus to a substation; and (vii) a 20-foot-long, 2.4-kV generator lead that connects the substation to three transformers; (8) the Cabot Station generating facility that includes: (i) An intake structure with 217-foot-wide, 31-foot-high trashracks with 0.94-inch and 3.56-inch clear-bar spacing; (ii) six 70-foot-long penstocks; (iii) a 235-foot-long, 79.5-foot-wide powerhouse that contains six turbine-generator units with a total installed capacity of 62.016 MW; (iv) six 41-foot-long, 12.5- to 14.5-foot-diameter draft tubes; (v) six 80- to 250-foot-long, 13.8-kV generator leads that connect the turbine-generator units to a generator bus; (vi) a 60-foot-long, 13.8-kV generator lead that connects the generator bus to the powerhouse roof; and (vii) a 200-foot-long, 13.8-kV generator lead that connects to a transformer; (9) eight 13.6-foot-wide, 16.7-foot-high power canal spillway gates that are adjacent to Cabot Station; (10) a 16.2-foot-wide, 13.1-foot-high log sluice gate in the Cabot Station forebay with an 8-foot-wide weir for downstream fish passage; (11) a 200-foot-long, 7-foot-diameter drainage tunnel (Keith Drainage Tunnel) and headgate; (12) a 955-foot-long, 5-foot-diameter lower drainage tunnel; (13) an 850-foot-long, 16-foot-wide, 10-foot-high fishway (Cabot fishway); (14) a 500-foot-long, 10-foot-wide, 10-foot-high fishway (Spillway fishway); (15) a 225-foot-long, 16-foot-wide, 17.5-foot-high fishway (Gatehouse fishway); and (16) appurtenant facilities.

The Turners Falls Project operates in peaking and run-of-river modes, depending on inflows. Average annual generation from 2011-2019 was approximately 332,351 MW-hours.

FirstLight proposes three changes to the current project boundary: (1) Remove 0.2 acre of land associated with residential property; (2) add 0.8 acre of land for recreation purposes; and (3) remove 20.1 acres of land associated with the U.S. Geological Survey's Silvio Conte Anadromous Fish Laboratory.

FirstLight proposes to construct new fish passage facilities and recreational access trails. FirstLight also proposes changes to project operation that would generally reduce impoundment fluctuations and increase flow releases to the portion of the Connecticut River that is bypassed by the project. The specific proposed changes are described in the amended application.

m. In addition to publishing the full text of this notice in the Federal Register, the Commission provides all interested persons an opportunity to view and/or print the contents of this notice, as well as other documents in the proceeding (e.g., license application) via the internet through the Commission's Home Page (http://www.ferc.gov) using the eLibrary link. Enter the docket number excluding the last three digits in the docket number field to access the document (P-1889). At this time, the Commission has suspended access to the Commission's Public Reference Room due to the proclamation declaring a National Emergency concerning the Novel Coronavirus Disease (COVID-19) issued by the President on March 13, 2020. For assistance, contact FERC at FERCOnlineSupport@ferc.gov or call toll-free, (866) 208-3676 or (202) 502-8659 (TTY).

n. You may also register online at https://ferconline.ferc.gov/FERCOnline.aspx to be notified via email of new filings and issuances related to this or other pending projects. For assistance, contact FERC Online Support.

o. Procedural Schedule: The application will be processed according to the following preliminary Hydro Licensing Schedule. Revisions to the schedule may be made as appropriate.

Milestone | Target date
Commission issues letters identifying application deficiencies and requesting additional information | January 2021.
Notice of Acceptance/Notice of Ready for Environmental Analysis | May 2021.
Filing of recommendations, preliminary terms and conditions, and fishway prescriptions | July 2021.
Reply Comments due | August 2021.

p. Final amendments to the application must be filed with the Commission no later than 30 days from the issuance date of the notice of ready for environmental analysis.

Dated: December 16, 2020.
Kimberly D. Bose,
Secretary.

[FR Doc. 2020-28235 Filed 12-21-20; 8:45 am]

BILLING CODE 6717-01-P